DEPARTMENT OF ENERGY

Federal Energy Regulatory Commission

Combined Notice of Filings #1

October 2, 2008.

Take notice that the Commission received the following exempt wholesale generator filings:

Docket Numbers: EG09-1-000.

Applicants: Tanglewood Storage & Transportation LLC.

Description: Notice of Self Certification of Exempt Wholesale Generator Status.

Filed Date: 10/01/2008.

Accession Number: 20081001-5080.

Comment Date: 5 p.m. Eastern Time on Wednesday, October 22, 2008.

Take notice that the Commission received the following electric rate filings:

Docket Numbers: ER05-644-008.

Applicants: PSEG Energy Resources & Trade LLC, PSEG Fossil LLC.

Description: Informational Filing of PSEG Energy Resources & Trade LLC, et al.

Filed Date: 10/01/2008.

Accession Number: 20081001-5063.

Comment Date: 5 p.m. Eastern Time on Wednesday, October 22, 2008.

Docket Numbers: ER05-1195-003.

Applicants: Silverhill LTD.

Description: Silverhill Ltd submits their request for determination of Category 1 status.

Filed Date: 09/29/2008.

Accession Number: 20081002-0131.

Comment Date: 5 p.m. Eastern Time on Monday, October 20, 2008.

Docket Numbers: ER08-749-000.

Applicants: Xcel Energy, Southwestern Public Service Company.

Description: Notice to the Commission from Southwestern Public Service Company of the Commercial In-Service Date of the Lea Power Plant and Request for Commission Authorization for Rates to go into Effect, Subject to Refund, As September 16, 2008.

Filed Date: 09/24/2008.

Accession Number: 20080924-5032.

Comment Date: 5 p.m. Eastern Time on Friday, October 10, 2008.

Docket Numbers: ER08-1214-001.

Applicants: Wisconsin Electric Power Company.

Description: Wisconsin Electric Power Co submits an executed Settlement Agreement and associated documents.

Filed Date: 09/12/2008.

Accession Number: 20080912-4012.

Comment Date: 5 p.m. Eastern Time on Tuesday, October 7, 2008.

Docket Numbers: ER08-1215-001.

Applicants: Wisconsin Electric Power Company.

Description: Wisconsin Electric Power Co submits an executed Settlement Agreement and associated documents.

Filed Date: 09/12/2008.

Accession Number: 20080912-4013.

Comment Date: 5 p.m. Eastern Time on Tuesday, October 7, 2008.

Docket Numbers: ER08-1216-001; ER08-1217-001; ER08-1218-001.

Applicants: Wisconsin Electric Power Company.

Description: Wisconsin Electric Power Co submits an executed Settlement Agreement and associated documents.

Filed Date: 09/12/2008.

Accession Number: 20080912-4011.

Comment Date: 5 p.m. Eastern Time on Tuesday, October 7, 2008.

Docket Numbers: ER08-1240-003.

Applicants: MH Partners LP.

Description: MH Partners LP submits an application for market-based rate authority.

Filed Date: 09/29/2008.

Accession Number: 20081002-0132.

Comment Date: 5 p.m. Eastern Time on Monday, October 20, 2008.

Docket Numbers: ER08-1428-001.

Applicants: Public Service Company of New Mexico.

Description: Public Service Co of New Mexico submits an errata to submitted contracts under ER08-1428.

Filed Date: 10/01/2008.

Accession Number: 20081002-0140.

Comment Date: 5 p.m. Eastern Time on Thursday, October 9, 2008.

Docket Numbers: ER08-1523-000.

Applicants: Coburn Energy, LLC.

Description: Coburn Energy LLC submits Petition for Acceptance of Initial Tariff, Waivers and Blanket Authority.

Filed Date: 09/30/2008.

Accession Number: 20081002-0133.

Comment Date: 5 p.m. Eastern Time on Tuesday, October 21, 2008.

Docket Numbers: ER08-1583-000.

Applicants: Tuolumne Wind Project, LLC.

Description: Tuolumne Wind Project, LLC submits petition for order accepting market-based rate tariff for filing and granting waivers and blanket approvals etc under ER08-1583.

Filed Date: 09/30/2008.

Accession Number: 20081002-0101.

Comment Date: 5 p.m. Eastern Time on Tuesday, October 21, 2008.

Docket Numbers: ER08-1589-000.

Applicants: PacifiCorp.

Description: PacifiCorp submits Network Integration Transmission Service Agreement between PacifiCorp and Bonneville Power Administration for Yakama Power to be designated as Second Revised Service Agreement 328 etc under ER08-1589.

Filed Date: 09/29/2008.

Accession Number: 20081002-0130.

Comment Date: 5 p.m. Eastern Time on Monday, October 20, 2008.

Docket Numbers ER08-1590-000.

Applicants: Niagara Mohawk Power Corporation.

Description: Niagara Mohawk Power Corp submits a power purchase agreement with Onondaga County Resources Recovery Agency.

Filed Date: 09/29/2008.

Accession Number: 20081002-0104.

Comment Date: 5 p.m. Eastern Time on Monday, October 20, 2008.

Docket Numbers ER08-1591-000.

Applicants: California Independent System Operator C.

Description: Petition of the California Independent System Operator Corporation for Waiver of Certain Business Practice Standards Adopted In Order No. 676-C.

Filed Date: 09/26/2008.

Accession Number: 20080926-5126.

Comment Date: 5 p.m. Eastern Time on Friday, October 17, 2008.

Docket Numbers ER08-1592-000.

Applicants: Niagara Mohawk Power Corporation.

Description: Niagara Mohawk Power Corp submits an interconnection agreement with Black River Limited Partnership et al. under ER08-1592.

Filed Date: 09/29/2008.

Accession Number: 20081002-0105.

Comment Date: 5 p.m. Eastern Time on Monday, October 20, 2008.

Docket Numbers ER08-1593-000.

Applicants: New England Power Company.

Description: New England Power Company submits a service agreement for Firm Local Generation Delivery Service dated 10/5/00 between NEP and Mascome Hydro Corporation under ER08-1593.

Filed Date: 09/29/2008.

Accession Number: 20081002-0106.

Comment Date: 5 p.m. Eastern Time on Monday, October 20, 2008.

Docket Numbers ER08-1594-000.

Applicants: Avista Corporation.

Description: Avista Corporation submits Fourth Revised Sheet 8 et al. to First Revised FERC Rate Schedule 184 under ER08-1594.

Filed Date: 09/29/2008.

Accession Number: 20081002-0129.

Comment Date: 5 p.m. Eastern Time on Monday, October 20, 2008.

Docket Numbers ER08-1595-000.

Applicants: Southern California Edison Company.

Description: Southern California Edison Company submits a letter agreement with the City of Victorville under ER08-1595.

Filed Date: 09/29/2008.

Accession Number: 20081002-0128.

Comment Date: 5 p.m. Eastern Time on Monday, October 20, 2008.

Docket Numbers ER08-1596-000.

Applicants: Xcel Energy Services Inc.

Description: Northern States Power Companies submits Notices of Cancellation for Agreement of Legacy Point-toPoint Transmission Service Agreements etc under ER08-1596.

Filed Date: 09/29/2008.

Accession Number: 20081002-0127.

Comment Date: 5 p.m. Eastern Time on Monday, October 20, 2008.

Docket Numbers ER08-1597-000.

Applicants: El Paso Electric Company.

Description: El Paso Electric Company submits proposed changes to its Open Access Transmissions Tariff under ER08-1597.

Filed Date: 09/30/2008.

Accession Number: 20081002-0124.

Comment Date: 5 p.m. Eastern Time on Tuesday, October 21, 2008.

Docket Numbers ER08-1598-000.

Applicants: New England Power Pool.

Description: The New England Power Pool Participants Committee submits counterpart signature pages of the New England Power Pool Agreement dated as of 9/1/71 under ER08-1598.

Filed Date: 09/30/2008.

Accession Number: 20081002-0123.

Comment Date: 5 p.m. Eastern Time on Tuesday, October 21, 2008.

Docket Numbers ER08-1599-000.

Applicants: Puget Sound Energy, Inc.

Description: Puget Sound Energy Inc submits Residential Purchase and Sale Agreement with United States of America Department of Energy under ER08-1599.

Filed Date: 09/30/2008.

Accession Number: 20081002-0122.

Comment Date: 5 p.m. Eastern Time on Tuesday, October 21, 2008.

Docket Numbers ER08-1600-000.

Applicants: Basin Electric Power Cooperative, Inc.

Description: Basin Electric Power Cooperative submits revised tariff sheets that modify the rates in the joint open-access transmission tariff of Black Hills Power, Inc under ER08-1600.

Filed Date: 09/29/2008.

Accession Number: 20081002-0107.

Comment Date: 5 p.m. Eastern Time on Monday, October 20, 2008.

Docket Numbers ER08-1601-000.

Applicants: Southwest Power Pool Inc.

Description: Southwest Power Pool, Inc submits proposed amendments to its Bylaws, Open Access Transmission Tariff and Membership Agreement under ER08-1601.

Filed Date: 09/30/2008.

Accession Number: 20081002-0121.

Comment Date: 5 p.m. Eastern Time on Tuesday, October 21, 2008.

Docket Numbers ER08-1602-000.

Applicants: Avista Corporation.

Description: Avista Corp submits the Short-Term Bridge Residential Purchase and Sale Agreement.

Filed Date: 09/30/2008.

Accession Number: 20081002-0120.

Comment Date: 5 p.m. Eastern Time on Tuesday, October 21, 2008.

Docket Numbers ER08-1604-000.

Applicants: Southwest Power Pool, Inc.

Description: Southwest Power Pool, Inc submits an executed Service Agreement for Network Integration Transmission Service with Oklahoma Gas and Electric Co.

Filed Date: 09/30/2008.

Accession Number: 20081002-0108.

Comment Date: 5 p.m. Eastern Time on Tuesday, October 21, 2008.

Docket Numbers ER08-1605-000.

Applicants: El Paso Electric Company.

Description: El Paso Electric Company submits First Revised Sheet 193 et al to their Open Access Transmission, Fourth Revised Volume 1.

Filed Date: 09/30/2008.

Accession Number: 20081002-0109.

Comment Date: 5 p.m. Eastern Time on Tuesday, October 21, 2008.

Docket Numbers ER08-1606-000.

Applicants: ISO New England Inc.

Description: ISO New England Inc submits the Request for Limited Waiver of NAESB WEQ Standards.

Filed Date: 09/30/2008.

Accession Number: 20081002-0111.

Comment Date: 5 p.m. Eastern Time on Tuesday, October 21, 2008.

Docket Numbers ER08-1607-000.

Applicants: PacifiCorp.

Description: PacifiCorp submits the Residential Purchase and Sale Agreement between the Bonneville Power Administration and PacifiCorp.

Filed Date: 09/30/2008.

Accession Number: 20081002-0110.

Comment Date: 5 p.m. Eastern Time on Tuesday, October 21, 2008.

Docket Numbers ER08-1608-000.

Applicants: Portland General Electric Company.

Description: Portland General Electric Co submits the Short-Term Bridge Residential Purchase and Sale Agreement.

Filed Date: 09/30/2008.

Accession Number: 20081002-0119.

Comment Date: 5 p.m. Eastern Time on Tuesday, October 21, 2008.

Docket Numbers ER08-1609-000.

Applicants: WSPP.

Description: WSPP, Inc submits a letter requesting the Commission to amend their Agreement to include 3 Phases Renewables, LLC et al as members of the WSPP.

Filed Date: 09/30/2008.

Accession Number: 20081002-0118.

Comment Date: 5 p.m. Eastern Time on Tuesday, October 21, 2008.

Docket Numbers ER08-1610-000.

Applicants: Arizona Public Service Company.

Description: Arizona Public Service Co submits revisions to FERC Electric Rate Schedule 182 under ER08-1610.

Filed Date: 09/30/2008.

Accession Number: 20081002-0102.

Comment Date: 5 p.m. Eastern Time on Tuesday, October 21, 2008.

Any person desiring to intervene or to protest in any of the above proceedings must file in accordance with Rules 211 and 214 of the Commission's Rules of Practice and Procedure (18 CFR 385.211 and 385.214) on or before 5 p.m. Eastern Time on the specified comment date. It is not necessary to separately intervene again in a subdocket related to a compliance filing if you have previously intervened in the same docket. Protests will be considered by the Commission in determining the appropriate action to be taken, but will not serve to make protestants parties to the proceeding. Anyone filing a motion to intervene or protest must serve a copy of that document on the Applicant. In reference to filings initiating a new proceeding, interventions or protests submitted on or before the comment deadline need not be served on persons other than the Applicant.

The Commission encourages electronic submission of protests and interventions in lieu of paper, using the FERC Online links at http://www.ferc.gov. To facilitate electronic service, persons with Internet access who will eFile a document and/or be listed as a contact for an intervenor must create and validate an eRegistration account using the eRegistration link. Select the eFiling link to log on and submit the intervention or protests.

Persons unable to file electronically should submit an original and 14 copies of the intervention or protest to the Federal Energy Regulatory Commission, 888 First St., NE., Washington, DC 20426.

The filings in the above proceedings are accessible in the Commission's eLibrary system by clicking on the appropriate link in the above list. They are also available for review in the Commission's Public Reference Room in Washington, DC. There is an eSubscription link on the Web site that enables subscribers to receive e-mail notification when a document is added to a subscribed dockets(s). For assistance with any FERC Online service, please email FERCOnlineSupport@ferc.gov, or call (866) 208-3676 (toll free). For TTY, call (202) 502-8659.

Nathaniel J. Davis, Sr.,
Deputy Secretary.

[FR Doc. E8-23933 Filed 10-8-08; 8:45 am]

BILLING CODE 6717-01-P